DEPARTMENT OF JUSTICE

Lodging of Consent Decree Under the Clean Air Act

Under 28 CFR 50.7, notice is hereby given that on July 25, 2000, a proposed consent decree in the case United States v. USX Corporation, Civil Action No. 99CV536JM, was lodged with the United States District Court for the Northern District of Indiana.

In this action the United States sought penalties for violations of Section 112(c) of the Clean Air Act, 42 U.S.C. 7412(c), and the National Emission Standard for benzene waste, 40 CFR Part 61, at its integrated steel plant located in Gary, Indiana. The proposed consent decree requires USX Corporation to pay $587,000 in civil penalties and to remove transformers containing 45,000 pounds of poly-chlorinated biphenyls (PCBs) as a supplemental environmental project.

The Department of Justice will receive for a period of thirty (30) days from the date of this publication comments relating to the consent decree. Comments should be addressed to the Assistant Attorney General, Environment and Natural Resources Division, 950 Pennsylvania Avenue, NW., Washington, DC 20530, and should refer to United States v. USC Corporation, No. 99CV536JM, D.J. Ref. 90-5-2-1-06476.

The consent decree may be examined at the Office of the United States Attorney, 1001 Main St., Suite A, Dyer, Indiana 46311, and at U.S. EPA Region 5, 77 West Jackson Boulevard, Chicago, Illinois 60604. A copy of the consent decree may also be obtained by mail from the Consent Decree Library, P.O. Box 7611, U.S. Department of Justice, Washington, DC 20044-7611. In requesting a copy, please enclose a check in the amount of $6.25 (25 cents per page reproduction cost) payable to the Consent Decree Library.

Joel M. Gross,
Chief, Environmental Enforcement Section, Environment and Natural Resources Division.

[FR Doc. 00-20296 Filed 8-9-00; 8:45 am]

BILLING CODE 4410-15-M